SECURITIES AND EXCHANGE COMMISSION

[Release No. 34-103690; File No. SR-NASDAQ-2025-061]

Self-Regulatory Organizations; The Nasdaq Stock Market LLC; Notice of Filing and Immediate Effectiveness of Proposed Rule Change To Amend Position and Exercise Limits for Options on the VanEck Bitcoin ETF

August 12, 2025.

Pursuant to Section 19(b)(1) of the Securities Exchange Act of 1934 (“Act”),¹ and Rule 19b-4 thereunder,² notice is hereby given that on August 7, 2025, The Nasdaq Stock Market LLC (“Nasdaq” or “Exchange”) filed with the Securities and Exchange Commission (“Commission”) the proposed rule change as described in Items I and II below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend The Nasdaq Options Market LLC (“NOM”) Options 9, Section 13, Position Limits, and Section 15, Exercise Limits, related to the listing of options on the VanEck Bitcoin ETF.

The text of the proposed rule change is available on the Exchange's website at https://listingcenter.nasdaq.com/rulebook/nasdaq/rulefilings and at the principal office of the Exchange.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The Exchange proposes to amend Options 9, Section 13, Position Limits, and Options 9, Section 15, Exercise Limits, related to the listing of options on the VanEck Bitcoin ETF.

Recently, Cboe Exchange, Inc. (“Cboe”) received approval to list and trade options on the VanEck Bitcoin ETF.³ Thereafter, Nasdaq ISE, LLC (“ISE”) filed a rule proposal to list and trade options on shares on an Exchange-Traded Fund or “ETF” that represent units of interest in the VanEck Bitcoin ETF.⁴ NOM's Options 4 Rules were amended by the ISE rule change as those Rules are incorporated by reference to ISE's Options 4 Rules, so NOM has the ability to list options on the VanEck Bitcoin ETF. The Cboe VanEck Filing stated that the position and exercise limits for options on the VanEck Bitcoin ETF shall be 25,000 contracts. At this time, the Exchange proposes to amend NOM Option 9, Section 13 and Options 9, Section 15 to similarly note that options on the VanEck Bitcoin ETF shall have a position limit of 25,000 contracts to mirror the Cboe VanEck Filing.

³ See Securities Exchange Act Release No. 103569 (July 29, 2025) (SR-Cboe-2025-017) (not yet noticed) (“Cboe VanEck Filing”).

⁴ See SR-ISE-2025-23.

2. Statutory Basis

The Exchange believes that its proposal is consistent with Section 6(b) of the Act,⁵ in general, and furthers the objectives of Section 6(b)(5) of the Act,⁶ in particular, in that it is designed to promote just and equitable principles of trade, to remove impediments to and perfect the mechanism of a free and open market and a national market system, and, in general to protect investors and the public interest.

⁵ 15 U.S.C. 78f(b).

⁶ 15 U.S.C. 78f(b)(5).

The Exchange's proposal to amend Options 9, Section 13, Position Limits, and Options 9, Section 15, Exercise Limits, to provide that the position and exercise limits for options on the VanEck Bitcoin ETF shall be 25,000 contracts is consistent with the Act as it will conform NOM's options position and exercise limits for the VanEck Bitcoin ETF with ISE's options position and exercise limits for the VanEck Bitcoin ETF to align those limits.⁷

⁷ The Exchange believes that other exchanges will adopt position and exercise limits of 25,000 contracts for options on the VanEck Bitcoin ETF. All Nasdaq affiliated markets are filing to adopt a 25,000 contract position and exercise limit for options on the VanEck Bitcoin ETF.

B. Self-Regulatory Organization's Statement on Burden on Competition

The proposed rule change does not impose any burden on competition that is not necessary or appropriate in furtherance of the purposes of the Act.

Amending Options 9, Sections 13 and 15 to provide that the position and exercise limits for options on the VanEck Bitcoin ETF shall be 25,000 contracts does not impose an undue burden on competition as the position and exercise limits will apply to all trading for options on the VanEck Bitcoin ETF trading on the Exchange as well as those trading on other exchanges that file a similar proposal.⁸

⁸ All Nasdaq affiliated markets are filing to adopt a 25,000 contract position and exercise limit for options on the VanEck Bitcoin ETF.

B. Self-Regulatory Organization's Statement on Comments on the Proposed Rule Change Received From Members, Participants, or Others

No written comments were either solicited or received.

III. Date of Effectiveness of the Proposed Rule Change and Timing for Commission Action

Because the foregoing proposed rule change does not: (i) significantly affect the protection of investors or the public interest; (ii) impose any significant burden on competition; and (iii) become operative for 30 days from the date on which it was filed, or such shorter time as the Commission may designate, it has become effective pursuant to Section 19(b)(3)(A)(iii) of the Act ⁹ and subparagraph (f)(6) of Rule 19b-4 thereunder.¹⁰

⁹ 15 U.S.C. 78s(b)(3)(A)(iii).

¹⁰ 17 CFR 240.19b-4(f)(6). In addition, Rule 19b-4(f)(6) requires a self-regulatory organization to give the Commission written notice of its intent to file the proposed rule change at least five business days prior to the date of filing of the proposed rule change, or such shorter time as designated by the Commission. The Exchange has satisfied this requirement.

A proposed rule change filed under Rule 19b-4(f)(6) ¹¹ under the Act does not normally become operative prior to 30 days after the date of the filing. However, pursuant to Rule 19b-4(f)(6)(iii),¹² the Commission may designate a shorter time if such action is consistent with the protection of investors and the public interest. The Exchange has requested that the Commission waive the 30-day operative delay so that the proposal may become operative immediately upon filing. The Commission previously approved the listing of options on shares of the VanEck Bitcoin ETF.¹³ As noted above, the Exchange's Options 4 Rules were amended by an ISE rule change ¹⁴ as those Rules are incorporated by reference to ISE's Options 4 Rules, so the Exchange has the ability to list the options on shares of the VanEck Bitcoin ETF. This proposal establishes position and exercise limits for options on shares of the VanEck Bitcoin ETF. The Commission believes that waiver of the operative delay could benefit investors by assuring that trading in VanEck Bitcoin ETF options are subject to the same position and exercise limits in place on other exchanges. Therefore, the Commission believes that waiver of the 30-day operative delay is consistent with the protection of investors and the public interest. Accordingly, the Commission hereby waives the 30-day operative delay and designates the proposed rule change as operative upon filing.¹⁵

¹¹ 17 CFR 240.19b-4(f)(6).

¹² 17 CFR 240.19b-4(f)(6)(iii).

¹³ See supra note 3.

¹⁴ See supra note 4.

¹⁵ For purposes only of waiving the 30-day operative delay, the Commission has also considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-NASDAQ-2025-061 on the subject line.

Paper Comments

• Send paper comments in triplicate to Secretary, Securities and Exchange Commission, 100 F Street NE, Washington, DC 20549-1090.

All submissions should refer to file number SR-NASDAQ-2025-061. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-NASDAQ-2025-061 and should be submitted on or before September 5, 2025.

For the Commission, by the Division of Trading and Markets, pursuant to delegated authority.¹⁶
¹⁶ 17 CFR 200.30-3(a)(12), (59).
Sherry R. Haywood,
Assistant Secretary.

[FR Doc. 2025-15519 Filed 8-14-25; 8:45 am]

BILLING CODE 8011-01-P